SECURITIES AND EXCHANGE COMMISSION

[Release No. 34-43414; File No. SR-OPRA-00-09]

Options Price Reporting Authority; Notice of Filing and Immediate Effectiveness of a Proposal To Amend the Options Price Reporting Authority Plan To Increase the Professional Subscriber Information Fees

October 4, 2000.

Pursuant to Rule 11Aa3-2 under the Securities Exchange Act of 1934 (“Act”) ¹ notice is hereby given that on October 3, 2000, the Options Price Reporting Authority (“OPRA”) ² submitted to the Securities and Exchange Commission (“SEC” or “Commission”) an amendment to the Plan for Reporting of Consolidated Options Last Sale Reports and Quotation Information (“Plan”). The proposed Plan amendment would increase the professional subscriber information fees charged by OPRA in respect of its Basic Service.

¹ 17 CFR 240.11 Aa3-2.

² OPRA is a National Market System Plan approved by the Commission pursuant to Section 11A of the Act and Rule 11Aa3-2 thereunder. See Securities Exchange Act Release No. 17638 (March 18, 1981).

The Plan provides for the collection and dissemination of last sale and quotation information on options that are traded on the member exchanges. The six exchanges that are participants to the Plan are the American Stock Exchange, the Chicago Board Options Exchange, the International Securities Exchange, the New York Stock Exchange, the Pacific Exchange, and the Philadelphia Stock Exchange.

I. Description and Purpose of the Amendment

The purpose of the amendment is to increase by approximately five percent the device-based information fees payable to OPRA by professional subscribers to OPRA's Basic Service, which consists of market data and related information pertaining to equity and index options (“OPRA Data”).³ OPRA does not propose to make any changes to OPRA's nonprofessional subscriber fee or to OPRA's usage-based fees that apply to dial-up market data services (which may include Internet services), radio paging services, and voice-synthesized market data services.

³ No changes are proposed to be made at this time to fees charged to vendors and subscribers for access to information pertaining to foreign currency options (“FCO”) provided through OPRA's FCO Service.

The proposed increase of device-based professional subscriber fees ranges from 4.35% to 6.06% of the existing fees. Professional subscriber fees charged to members will continue to be discounted by two percent for members who preauthorize payment by electronic funds transfer through an automated clearinghouse system. OPRA estimates that the overall effect of the proposed increase in professional subscriber fees will be to increase revenues derived from professional subscriber fees by approximately five percent. Professional subscribers are those persons who subscribe to OPRA Data and do not qualify for the reduced fees charged to nonprofessional subscribers. As an alternative to device-based fees, professional subscribers may pay an enterprise rate fee based on the number of their U.S. registered representatives. No changes are proposed to be made to the enterprise rate fee.

The proposed increase in the amount of the professional subscriber fees is intended to generate additional OPRA revenues derived from device-based subscriber fees in order to cover actual and anticipated increases in the costs of collecting, consolidating, processing, and disseminating options market data. These increases for the most part reflect the costs of major enhancements to and upgrades of the OPRA system to enable it to handle expanded multiple trading of options, overall greater trading volume, and the move to decimal pricing for options.

II. Implementation of the Plan Amendment

Pursuant to paragraph (c)(3)(i) of Rule 11Aa3-2,⁴ OPRA designates this amendment as establishing or changing a fee or other charge collected on behalf of all of the OPRA participants in connection with access to or use of OPRA facilities, thereby qualifying for effectiveness upon filing. In order to give subscribers advance notice of the revised fees, they are proposed to be put into effect commencing January 1, 2001. The Commission may summarily abrogate the amendment within 60 days of filing and require refiling and approval of the amendment by Commission order pursuant to Rule 11Aa3-2(c)(2),⁵ if it appears to the Commission that such action is necessary or appropriate in the public interests, for the protection of investors and the maintenance of fair and orderly markets, to remove impediments to, and perfect the mechanisms of, a national market system, or otherwise in furtherance of the purposes of the Exchange Act.⁶

⁴ 17 CFR 240.11Aa3-2(c)(3)(i).

⁵ 17 CFR 240.11Aa3-2(c)(2).

⁶ 17 CFR 240.11Aa3-2.

II. Solicitation of Comments

Interested person are invited to submit written data, views, and arguments concerning the foregoing, including whether the proposed Plan amendment is consistent with the Act. Persons making written submissions should file six copies thereof with the Secretary, Securities and Exchange Commission, 450 Fifth Street, N.W., Washington, D.C. 20549-0609. Copies of the Submission, all subsequent amendments, and all written statements with respect to the proposed Plan amendment that are filed with the Commission, and all written communications relating to the proposed Plan amendment between the Commission and any person, other than those withheld from the public in accordance with the provisions of 5 U.S.C. 552, will be available for inspection and copying in the Commission's Public Reference Room. Copies of the filing also will be available at the principal offices of OPRA. All submissions should refer to File No. SR-OPRA-00-09 and should be submitted by November 2, 2000.

For the Commission, by the Division of Market Regulation, pursuant to delegated authority.⁷
⁷ 17 CFR 200.30-3(a)(29).
Margaret H. McFarland,
Deputy Secretary.

[FR Doc. 00-26185 Filed 10-11-00; 8:45 am]

BILLING CODE 8010-01-M